DEPARTMENT OF COMMERCE

National Oceanic and Atmospheric Administration

[RTID 0648-XA864]

Fisheries of the South Atlantic; South Atlantic Fishery Management Council; Public Meetings

AGENCY: National Marine Fisheries Service (NMFS), National Oceanic and Atmospheric Administration (NOAA), Commerce.

ACTION: Notice of public meetings.

SUMMARY: The South Atlantic Fishery Management Council's (Council) Citizen Science Program will hold two town hall meetings to assist in the development of a customizable citizen science mobile application via webinar March 9 and March 11, 2021.

DATES: The meetings via webinar will be held on Tuesday, March 9, 2021, from 5 p.m. until 7 p.m. and on Thursday, March 11, 2021, from 10 a.m. until 12 p.m.

ADDRESSES:

Meeting address: The meetings will be held via webinar. The webinars are open to members of the public. Those interested in participating should contact Julia Byrd (see FOR FURTHER INFORMATION CONTACT) to request an invitation providing webinar access information. Please request webinar invitations at least 24 hours in advance of each webinar.

Council address: South Atlantic Fishery Management Council, 4055 Faber Place Drive, Suite 201, N Charleston, SC 29405.

FOR FURTHER INFORMATION CONTACT: Julia Byrd, Citizen Science Program Manager, SAFMC; phone: (843) 302-8433 or toll free: (866) SAFMC-10; fax: (843) 769-4520; email: julia.byrd@safmc.net.

SUPPLEMENTARY INFORMATION: The role of citizen science is an evolving and potentially powerful tool to better understand marine fish populations. With that in mind, the South Atlantic Fishery Management Council's Citizen Science Program has partnered with the Atlantic Coastal Cooperative Statistics Program and the North Carolina Division of Marine Fisheries to develop a mobile application that encourages and supports the capture and sharing of information about Atlantic coast fish. The town hall meetings will be interactive to gain insights from stakeholders including fishermen, fisheries scientists, and fisheries managers. Interested participants will only need to attend one of the two meetings.

Items of discussion at the town hall meetings are as follows:

1. Project introduction

2. Brainstorm and discuss insights from participants to identify what they consider to be the most useful information that could be captured and generated by a citizen science mobile application.

The meeting end times are subject to change depending on attendance and discussions.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: February 8, 2021.
Tracey L. Thompson,
Acting Deputy Director, Office of Sustainable Fisheries, National Marine Fisheries Service.

[FR Doc. 2021-02828 Filed 2-10-21; 8:45 am]

BILLING CODE 3510-22-P